DEPARTMENT OF LABOR

Employment and Training Administration

Notice of Determinations Regarding Eligibility to Apply for Worker Adjustment Assistance and NAFTA Transitional Adjustment Assistance

In accordance with Section 223 of the Trade Act of 1974, as amended, the Department of Labor herein presents summaries of determinations regarding eligibility to apply for trade adjustment assistance for workers (TA-W) issued during the period of August, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,484; Crossroad Knitting, Inc., Claudville, VA

TA-W-41,646; Trinity Industries, Beaumont, TX

TA-W-41,447; Midway Machine and Tool Co., Plant #146, a Div. Of Crown Cork and Seal Co., Wilkes-Barre, PA

TA-W-41,615; Aftermarket Technologies, Aaron's Automotive Products, Inc., Joplin, MO

TA-W-41,647; DuPont Co., Lycra-Terathane Div., Niagara Falls, NY

TA-W-41,661; Soilmec Branham, Inc., Conroe, TX

TA-W-41,700; Flextronics International USA, Longmont, CO

TA-W-41,718; Grafx Packaging, Canal Winchester, OH

TA-W-41,726; Parker Dayco, Eldora Plant, Eldora, IA

TA-W-41,751; Gilbert Manufacturing Co., Div. Of Larsdale Corp., South Hill, VA

TA-W-41,752; Super Steel Schenectady, Inc., a Div. Of Super Steel Products Corp.

TA-W-41,756; H and L Tool Co., Erie, PA

In the following cases, the investigation revealed that the criteria for eligibility have not been met for the reasons specified.

Increased imports did not contribute importantly to worker separations at the firm.

TA-W-41,570; FMC Corp., Green River, WY

TA-W-41,695; P.C.C. Airfoils, Inc. Minerva, OH

TA-W-41,703; E.I. DuPont, Sabine River Works, Orange, TX

TA-W-41,710; Lander Co., Inc., Camarillo, CA Sturbridge, MA

TA-W-41,725; Nu-Gro Technologies, Inc., Gloversville, NY

TA-W-41,727; Solectron Oregon, A Subsidiary of Solectron Corp., Hillsboro, OR

TA-W-41,728; Wesbar Corp., A Div. Of Trimas Corp., Peru, IN

The workers firm does not produce an article as required for certification under Section 222 of the Trade Act of 1974.

TA-W-41,746; Kelly Technical Service, A Contractor for LTV Steel, Independence, OH

TA-W-41,748; CDI Information Technology Services, A Contractor for IBM, Morrisville, NC

TA-W-41,518; United Electric Co., Virginia, MN

TA-W-41,753; Gerber Technology, Inc., Richardson, TX

TA-W-41,626; Sitel Corp., Longview, TX

TA-W-41,903; Penske Truck Leasing, St. Louis Administration Center, Chesterfield, MO

TA-W-41,923; Phelps Dodge Hidalgo, Inc., Playas, NM

TA-W-41,448; Ocwen Technology Xchange, Carlsbad, CA

TA-W-41,637; Jones Apparel Group, Raw Materials Div., Rural Hall, NC

TA-W-41,640; Halmode Apparel, Inc., Roanoke, VA

TA-W-41,625; Insystem Technologies Ltd, Roanoke, VA

The investigation revealed that criterion (1) and criterion (2) have not been met. A significant number or proportion of the workers did not become totally or partially separated from employment as required for certification. Sales or production did not decline during the relevant period as required for certification.

TA-W-41,631; Smith Aerospace Electric Systems, Malven, PA

Affirmative Determinations for Worker Adjustment Assistance

The following certifications have been issued; the date following the company name and location of each determination references the impact date for all workers of such determination.

TA-W-41,416; Siemens VDO Automotive, Auburn IN: March 29, 2001.

TA-W-41,606; Whatman, Inc., Ann Arbor, MI: May 20, 2001.

TA-W-41,628; Darco Kentucky, A Subsidiary of Darco International Louisville, KY: May 20, 2001.

TA-W-41,643; J.D. Holding Company and Subsidiary, Inc., DC Products, Inc., Springport, MI: May 29, 2001.

TA-W-41,645 & A, B, C; Deckerville Wire Co., Subsidiary of Clements Manufacturing LLC, Deckerville, MI, Brown City Wire Co., Subsidiary of Clements Manufacturing LLC, Deckerville, MI, Deckerville Wire Co., Subsidiary of Clements Manufacturing LLC, Harbor Beach, MI and Brown City Wire Co., Subsidiary of Clements Manufacturing LLC, Harbor Beach, MI: May 15, 2001.

TA-W-41,696; eMag Solutions, LLC, Graham, TX: July 1, 2002.

TA-W-41,709; Elbeco, Inc., Meyersdale Manufacturing, Meyersdale, PA: May 29, 2001.

TA-W-41,713; Emerson Electric Co., Wiegand Appliance Div., Vernon, AL: June 10, 2001.

TA-W-41,669; Hankinson International, Washington, PA; May 24, 2001.

TA-W-41,666; PSM Fastener Corp., St. Louis, MO: May 24, 2001.

TA-W-41,736; Therm-O-Disc, Inc., Midwest Components Product Group, Muskegon, MI: June 18, 2001.

TA-W-41,731; ABB Automation, Inc., Columbus, OH: May 30, 2001.

TA-W-41,547; Church and Dwight Co., Inc., Lambert-Kay Div., Winsted, CT: April 25, 2001.

TA-W-41,068; Ansewn Footwear, Bangor, ME: February 4, 2001.

TA-W-41,715; Superior Essex, Communications Group, Elizabethtown, KY: May 17, 2001.

TA-W-41,699; Liberty Sportswear, Inc., A Div. of Jean Michael's, Inc., Willingboro, NJ: June 3, 2001.

TA-W-41,663; Gold Toe Brands, Inc., Burlington, NC: May 30, 2001.

TA-W-41,648; Breeze Industrial Products Corp., Saltsburg, PA: May 13, 2001.

TA-W-41,638 & A; Glenn Enterprises, Sulligent, AL and Detroit Distribution, Detroit, AL: July 10, 2001.

TA-W-41,724; Lake City Manufacturing Co., Inc., Lake City, SC: May 29, 2001.

TA-W-41,722; Murice Silvera, Inc., New York, NY: May 28, 2001.

TA-W-41,760; Industrial Coils, Inc., Baraboo, WI: June 12, 2001.

TA-W-41,754; T.C. Timber Habermass Corp., Skaneateles, NY: June 13, 2001.

TA-W-41,745; Angelica Image Apparel, A Subdivision of Angelica Corp., Collinwood, TN: May 23, 2001.

TA-W-41,772; Fisher Products Group, A Div. of Fisher Scientific International, Pittsburgh, PA: June 17, 2001.

TA-W-41,768; Bridal Originals, DuQuoin Manufacturing Plant, a Subsidiary of S.A.S.I. Corp., DuQuoin, IL: June 7, 2001.

TA-W-41,910; Buffalo Color Corp., a Subsidiary of Lanesborough Corp., Buffalo, NY: November 6, 2001.

TA-W-41,878; Doncasters, Inc., Turbo Products Div., a Subsidiary of Doncasters, LLC, Ivoryton, CT: June 7, 2001.

TA-W-41,781; Turfer Sportswear, Inc., Woonsocket, RI: June 28, 2001.

TA-W-41,779; Robert Bosch Corp., A Subsidiary of Robert Bosch GMBH & Robert Bosch Internationale Beleiligungen AG, Lithia Springs, GA: April 26, 2001.

Also, pursuant to Title V of the North American Free Trade Agreement Implementation Act (P.L. 103-182 concerning transitional adjustment assistance hereinafter called (NAFTA-TAA) and in accordance with Section 250(a), Subchapter D, Chapter 2, Title II, of the Trade Act as amended, the Department of Labor presents summaries of determinations regarding eligibility to apply for NAFTA-TAA issued during the months of August, 2002.

In order for an affirmative determination to be made and a certification of eligibility to apply for NAFTA-TAA the following group eligibility requirements of Sections 250 of the Trade Act must be met:

(1) That a significant number of proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determination NAFTA-TAA

In each of the following cases the investigation revealed that criteria (3) and (4) were not met. Imports from Canada or Mexico did not contribute importantly to workers' separations. There was no shift in production from the subject firm to Canada or Mexico during the relevant period

NAFTA-TAA-06132; Midway Machine and Tool Co., Plant #146, a Division of Crown Cork and Seal Co., Inc., Wilkes-Barre, PA

NAFTA-TAA-06212; Aftermarket Technologies, Aaron's Automotive Products, Inc., Joplin, MO

NAFTA-TAA-06225; Breeze Industrial Products Corp., Saltsburg, PA

NAFTA-TAA-06247; DuPont Co., Lycra Terathane Div., Niagara Falls, NY

NAFTA-TAA-06276; Solectron Oregon, a Subsidiary of Solectron Corp., Hillsboro, OR

NAFTA-TAA-06313; H and L Tool Co., Erie, PA

NAFTA-TAA-06341; Flextronics International USA, Inc., Longmont, CO

The investigation revealed that the criteria for eligibility have not been met for the reasons specified.

The investigation revealed that workers of the subject firm did not produce an article within the meaning of Section 250(a) of the Trade Act, as amended.

NAFTA-TAA-06376; Tellabs Operations, Inc., Optical Networking Group, Hawthorne, NY

NAFTA-TAA-06284; Severn Trent Services, Inc., Environmental Services Group, Fieldale, VA

NAFTA-TAA-06258; Jones Apparel Group, Raw Materials Div., Rural Hall, NC

NAFTA-TAA-06299; Educa Corp., a Subsidiary of 3M, El Paso, TX, Including Temporary Workers of The Following Firms: Manpower, Inc., El Paso, TX, Randstadt, El Paso, TX and Southwest Staffing, El Paso, TX

NAFTA-TAA-06388; IBM Rochester, Server Group, Server Development, a Subsidiary of IBM Corp., Rochester, MN and A; IBM Rochester, Server Group, Enterprise Services, a Subsidiary of IBM Corp., Rochester, MN and B; IBM Rochester, Global Services, a Subsidiary of IBM Corp., Rochester, MN

The investigation revealed that criterion (1) and criterion (2) have not been met. A significant number or proportion of the workers in such workers' firm or an appropriate subdivision (including workers in any agricultural firm or appropriate subdivision thereof) did not become totally or partially separated from employment as required for certification. Sales or production did not decline during the relevant period as required for certification.

NAFTA-TAA-06210; Smith Aerospace Electric Systems, Malvern, PA

Affirmative Determinations NAFTA-TAA

NAFTA-TAA-06036; Siemens VDO Automotive, Auburn, IN: April 5, 2001.

NAFTA-TAA-06289; Tecknit, Inc., Cranford, NJ: April 29, 2001.

NAFTA-TAA-06408; Emerson Electric Co., Wiegand Appliance Div., Vernon, AL: July 8, 2001.

NAFTA-TAA-06131; Cimworks, Div. of GE Fanuc, Kirkland, WA: April 5, 2001.

NAFTA-TAA-06161; Superior Essex, Communications Group, Elizabethtown, KY: May 6, 2001.

NAFTA-TAA-06223; Gold Toe Brands, Inc., Burlington, NC: May 20, 2001.

NAFTA-TAA-06242; Nu-Gro Technologies, Inc., Gloversville, NY: May 31, 2001.

NAFTA-TAA-06266; Lander Co., Inc., Camarillo, A: May 30, 2001.

NAFTA-TAA-06267; Wesbar Corp., A Div. of Trimas Corp., Peru, IN: May 29, 2001.

NAFTA-TAA-06290; Therm-O-Disc, Inc., Midwest Components Product Group, Muskegon, MI: June 18, 2001.

NAFTA-TAA-06309; Brooks-Pri Automation, Inc., Controls Div., Hillsboro, OR: June 12, 2001.

NAFTA-TAA-06208; Deckerville Wire Co., Subsidiary of Clements Manufacturing LLC, Deckerville, MI A; Brown City Wire Co., Subsidiary of Clements Manufacturing LLC, Deckerville, MI B; Deckerville Wire Co., Subsidiary of Clements Manufacturing LLC, Harbor Beach, MI and C; Brown City Wire Co., Subsidiary of Clements Manufacturing LLC, Harbor Beach, MI: May 15, 2001.

NAFTA-TAA-06391; Krone, Inc., El Paso Distribution Center, El Paso, TX: July 10, 2001.

NAFTA-TAA-06346; Buffalo Color Corp., a Subsidiary of Lanesborough Corp., Buffalo, NY: July 24, 2001.

NAFTA-TAA-06466; Welcast Plastics—Harris Welco, a Div. of J.W. Harris Co., Barberton, OH: June 24, 2001.

I hereby certify that the aforementioned determinations were issued during the months of August, 2002. Copies of these determinations are available for inspection in Room C-5311, U.S. Department of Labor, 200 Constitution Avenue, N.W., Washington, D.C. 20210 during normal business hours or will be mailed to persons who write to the above address.

Dated: September 3, 2002.
Edward A. Tomchick,
Director, Division of Trade Adjustment Assistance.

[FR Doc. 02-22955 Filed 9-9-02; 8:45 am]

BILLING CODE 4510-30-M